FEDERAL COMMUNICATIONS COMMISSION

[Report No. 2787]

Petition for Reconsideration of Action in Rulemaking Proceeding

August 9, 2006.

A Petition for Reconsideration has been filed in the Commission's Rulemaking proceeding listed in this Public Notice and published pursuant to 47 CFR Section 1.429(e). The full text of this document is available for viewing and copying in Room CY-B402, 445 12th Street, SW., Washington, DC or may be purchased from the Commission's copy contractor, Best Copy and Printing, Inc. (BCPI) (1-800-378-3160). Oppositions to this petition must be filed by September 7, 2006. See Section 1.4(b)(1) of the Commission's rules (47 CFR 1.4(b)(1)). Replies to an opposition must be filed within 10 days after the time for filing oppositions have expired.

Subject: In the Matter of Implementation of the Commercial Spectrum Enhancement Act and Modernization of the Commission's Competitive Bidding Rules and Procedures (WT Docket No. 05-211).

Number of Petitions Filed: 1.

William F. Caton,
Deputy Secretary.

[FR Doc. E6-13740 Filed 8-22-06; 8:45 am]

BILLING CODE 6712-01-P